DEPARTMENT OF ENERGY

Federal Energy Regulatory Commission

[Docket No. ER01-317-003 et al.]

The Dayton Power and Light Company, et al.; Electric Rate and Corporate Regulation Filings

April 3, 2001.

Take notice that the following filings have been made with the Commission:

1. The Dayton Power and Light Company

[Docket No. ER01-317-003]

Take notice that on March 29, 2001, The Dayton Power and Light Company (DP&L) filed amendments to DP&L's Open Access Transmission Tariff (OATT) to comply with a February 27, 2001 FERC Order.

DP&L requests an effective date of January 1, 2001 for the above-described amendments. Copies of this filing were served upon DP&L's jurisdictional customers and the Public Utilities Commission of Ohio.

Comment date: April 19, 2001, in accordance with Standard Paragraph E at the end of this notice.

2. Delmarva Power & Light Company

[Docket No. ER01-1640-000]

Take notice that on March 29, 2001, Delmarva Power & Light Company (Delmarva) tendered for filing an Interconnection Agreement with the Town of Berlin, Maryland (Berlin). The Interconnection Agreement provides for the interconnection of facilities at the point of interconnection between Delmarva and Berlin. Delmarva requests that the Interconnection Agreement become effective on June 1, 2001.

Copies of the filing were served upon the Delaware Public Service Commission and the Maryland Public Service Commission.

Comment date: April 19, 2001, in accordance with Standard Paragraph E at the end of this notice.

3. Wisconsin Electric Power Company

[Docket No. ER01-1641-000]

Take notice that on March 29, 2001, Wisconsin Electric Power Company (Wisconsin Electric) tendered for filing, pursuant to section 35.12 of the Commission's regulations, 18 CFR § 35.12 (2000) a Wholesale Distribution Export Service Agreement between Wisconsin Electric and Alliant Energy Corporate Services, Inc. (Alliant) for the provision of wholesale distribution export service to Alliant beginning January 1, 2001.

Comment date: April 19, 2001, in accordance with Standard Paragraph E at the end of this notice.

4. Virginia Electric and Power Company

[Docket No. ER01-1642-000]

Take notice that on March 29, 2001, Virginia Electric and Power Company (Dominion Virginia Power or the Company) tendered for filing the following:

1. Service Agreement for Firm Point-to-Point Transmission Service by Virginia Electric and Power Company to Calpine Energy Services, L.P. designated as Service Agreement No. 315 under the Company's FERC Electric Tariff, Second Revised Volume No. 5;

2. Service Agreement for Non-Firm Point-to-Point Transmission Service by Virginia Electric and Power Company to Calpine Energy Services, L.P. designated as Service Agreement No. 316 under the Company's FERC Electric Tariff, Second Revised Volume No. 5.

The foregoing Service Agreements are tendered for filing under the Open Access Transmission Tariff to Eligible Purchasers effective June 7, 2000. Under the tendered Service Agreements, Dominion Virginia Power will provide point-to-point service to Calpine Energy Services, L.P. under the rates, terms and conditions of the Open Access Transmission Tariff. Dominion Virginia Power requests an effective date of March 29, 2001, the date of filing of the Service Agreements.

Copies of the filing were served upon Calpine Energy Services, L.P., the Virginia State Corporation Commission, and the North Carolina Utilities Commission.

Comment date: April 19, 2001, in accordance with Standard Paragraph E at the end of this notice.

5. Northeast Utilities Service Company

[Docket No. ER01-1643-000]

Take notice that on March 29, 2001, Northeast Utilities Service Company (NUSCO), tendered for filing a Service Agreement to provide Non-Firm Point-To-Point Transmission Service to CMS Marketing, Services and Trading Company under the NU System Companies' Open Access Transmission Service Tariff No. 9.

NUSCO states that a copy of this filing has been mailed to CMS Marketing, Services and Trading Company NUSCO requests that the Service Agreement become effective April 2, 2001.

Comment date: April 19, 2001, in accordance with Standard Paragraph E at the end of this notice.

6. Northeast Utilities Service Company

[Docket No. ER01-1644-000]

Take notice that on March 29, 2001, Northeast Utilities Service Company (NUSCO), tendered for filing Service Agreement to provide Firm Point-To-Point Transmission Service to CMS Marketing, Services and Trading Company under the NU System Companies' Open Access Transmission Service Tariff No. 9.

NUSCO states that a copy of this filing has been mailed to CMS Marketing, Services and Trading Company.

NUSCO requests that the Service Agreement become effective April 2, 2001.

Comment date: April 19, 2001, in accordance with Standard Paragraph E at the end of this notice.

7. Commonwealth Edison Company

[Docket No. ER01-1645-000]

Take notice that on March 29, 2001, Commonwealth Edison Company (ComEd) tendered for filing an unexecuted Service Agreement for Network Integration Transmission Service (Service Agreement) between ComEd and Commonwealth Edison Company in its Wholesale Merchant Function (WMD) and an unexecuted Network Operating Agreement (Operating Agreement) between ComEd and WMD.

ComEd requests an effective date of March 1, 2001 for the Service Agreement and Operating Agreement and accordingly seeks waiver of the Commission's notice requirements. Copies of the filing were served on WMD.

Comment date: April 19, 2001, in accordance with Standard Paragraph E at the end of this notice.

8. California Independent System Operator Corporation

[Docket No. ER01-1646-000]

Take notice that on March 29, 2001, the California Independent System Operator Corporation (ISO) tendered for filing the Interconnected Control Area Operating Agreement (ICAOA) between the ISO and Comisión Federal de Electicidad (CFE). The ISO requests waiver of the 60-day prior notice requirement to allow the ICAOA to become effective as of December 1, 2000.

The ISO states that the filing has been served on the Public Utilities Commission of the State of California and Comisión Federal de Electicidad.

Comment date: April 19, 2001, in accordance with Standard Paragraph E at the end of this notice.

9. Virginia Electric and Power Company

[Docket No. ER01-1647-000]

Take notice that on March 29, 2001, Virginia Electric and Power Company, doing business as Dominion North Carolina Power (the Company), filed a letter agreement between North Carolina Electric Membership Corporation (NCEMC) and the Company. The letter agreement, dated January 24, 2001, adds a new delivery point to the North Carolina Electric Membership Corporation Agreement for the Purchase of Electricity for Resale from Virginia Electric & Power Company, Rate Schedule FERC No. 105.

The Company requests waiver of the Commission's notice of filing requirements to allow the letter agreement to become effective on March 30, 2001. The Company will begin service under the new delivery point on or after March 30, 2001.

Copies of the filing were served upon NCEMC, North Carolina Utilities Commission Virginia State Corporation Commission.

Comment date: April 19, 2001, in accordance with Standard Paragraph E at the end of this notice.

10. The Dayton Power and Light Company

[Docket No. ER01-1648-000]

Take notice that on March 29, 2001, The Dayton Power and Light Company (Dayton) submitted service agreements establishing with FirstEnergy Services Corporation as customers under the terms of Dayton's Open Access Transmission Tariff.

Dayton requests an effective date of one day subsequent to this filing for the service agreements. Accordingly, Dayton requests waiver of the Commission's notice requirements. Copies of this filing were served upon FirstEnergy Services Corporation and the Public Utilities Commission of Ohio.

Comment date: April 19, 2001, in accordance with Standard Paragraph E at the end of this notice.

11. NorthWestern Public Service Company

[Docket No. ER01-1651-000]

Take notice that on March 29, 2001, NorthWestern Public Service Company (NorthWestern) tendered for filing executed service agreements for Firm Point-to-Point Transmission Service with the City of Langford, South Dakota, the City of Groton, South Dakota, and the City of Aberdeen, South Dakota, and four executed service agreements for Firm Point-to-Point Transmission Service with the State of South Dakota (collectively, Transmission Customers). NorthWestern seeks an effective date of April 1, 2001 for these service agreements.

Copies of this filing were served on the Transmission Customers.

Comment date: April 19, 2001, in accordance with Standard Paragraph E at the end of this notice.

12. PECO Energy Company

[Docket No. ER01-1652-000]

Take notice that on March 29, 2001, PECO Energy Company tendered for filing a revision to the Owners Agreement for Peach Bottom No. 2 and 3 Nuclear Units, as amended and supplemented, PECO Energy Company FERC Rate Schedule No. 81.

Comment date: April 19, 2001, in accordance with Standard Paragraph E at the end of this notice.

13. Exelon Generation Company, LLC

[Docket No. ER01-1653-000]

Take notice that on March 29, 2001, Exelon Generation Company, LLC (Exelon Generation) tendered for filing a Notice of Succession notifying the Commission that is has succeeded to the Owners Agreement for Peach Bottom No. 2 and 3 Nuclear Units, as amended and supplemented, PECO Energy Company FERC Rate Schedule No. 81 (the Peach Bottom Agreement).

In conformance with Order No. 614, Exelon Generation also filed the Peach Bottom Agreement with the Commission as an Exelon Generation rate schedule.

Comment date: April 19, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8741 Filed 4-9-01; 8:45 am]

BILLING CODE 6717-01-P